LEGAL SERVICES CORPORATION

Sunshine Act Meeting of the Board of Directors

Time and Date: The Board of Directors of the Legal Services Corporation will meet August 12, 2004, from 9 a.m., until conclusion of the Board's agenda.

Location: The Melrose Hotel, 2430 Pennsylvania Avenue, NW., Washington, DC 20037.

Status of Meeting: Closed. The meeting will be closed pursuant to a vote of the Board of Directors to hold an executive session. At the closed session, the Board will interview finalists for the position of Inspector General of the Legal Services Corporation and consider the qualifications of these individuals, options available for compensating the Inspector General as well as further steps to be taken in connection with the selection and hiring of that individual. The closing is authorized by 5 U.S.C. 552b(c)(6) and LSC's corresponding regulation 45 CFR 1622.5(e). A copy of the General Counsel's Certification that the closing is authorized by law will be available upon request.

Matters to be Considered: Closed Session

1. Approval of agenda.

2. Interview finalists for the position of Inspector General.

3. Review and discuss qualifications of the finalists interviewed.

4. Consider and act on options available to compensate the Inspector General.

5. Consider and act on further steps to be taken in connection with the selection and hiring of an Inspector General.

6. Consider and act on adjournment of meeting.

Contact Person for Information: Patricia Batie, Manager of Board Operations, at (202) 295-1500.

Special Needs: Upon request, meeting notices will be made available in alternate formats to accommodate visual and hearing impairments. Individuals who have a disability and need an accommodation to attend the meeting may notify Patricia Batie, at (202) 295-1500.

Dated: August 3, 2004.
Victor M. Fortuno,
Vice President for Legal Affairs, General Counsel & Corporate Secretary.

[FR Doc. 04-18033 Filed 8-3-04; 1:45 pm]

BILLING CODE 7050-01-P